DEPARTMENT OF HEALTH AND HUMAN SERVICES

Health Resources and Services Administration

Agency Information Collection Activities; Proposed Collection; Comment Request

ACTION: Notice

SUMMARY: In compliance with the requirement for opportunity for public comment on proposed data collection projects (Section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

HRSA especially requests comments on: (1) The necessity and utility of the proposed information collection for the proper performance of the agency's functions, (2) the accuracy of the estimated burden, (3) ways to enhance the quality, utility, and clarity of the information to be collected, and (4) the use of automated collection techniques or other forms of information technology to minimize the information collection burden.

Information Collection Request Title: Evaluating the Impact of 1115 Medicaid Waivers on Ryan White HIV/AIDS Program and Its Clients and Providers (OMB No. 0915-xxxx)—New

Abstract: Section 1115 of the Social Security Act allows states to develop, test, and implement new approaches to providing Medicaid coverage outside of federal program rules. Leading up to full implementation of the Affordable Care Act, states have begun to use Section 1115 Medicaid demonstration waivers as a “bridge” to 2014. This project will examine 1115 Medicaid waivers that have expanded eligibility to specifically include people living with HIV/AIDS (PLWH) who are not otherwise eligible for Medicaid services. Since 1990, the Ryan White HIV/AIDS Program (RWHAP) has provided funding for primary care, medications, and support services for PLWH, helping fill the health care and service gap for those who are uninsured or ineligible for Medicaid. Given the important role of the RWHAP and Medicaid in meeting the health care needs of PLWH, there is a need to better understand how Medicaid expansion and the 1115 Medicaid waivers will affect the RWHAP and how the waivers have prepared states for implementation of the Affordable Care Act.

As part of this project, case studies will be conducted in eight states that have implemented 1115 Medicaid waivers to expand Medicaid eligibility for PLWH. The case studies will include site visits and discussions with the state Medicaid programs and with RWHAP grantees and service providers to examine the waivers and their impact on PLWH. In addition, the studies will explore whether and how the 1115 Medicaid waivers have helped states and RWHAP grantees and providers prepare for implementation of the Affordable Care Act, including providing insights into Medicaid expansion. Data will be collected through qualitative interviews, guided by discussion tools with questions tailored for four specific groups of individuals from: (1) State Medicaid Agencies; (2) Ryan White HIV/AIDS Program Part B grantees and service providers; (3) Ryan White HIV/AIDS Program Part A grantees and service providers; and (4) Ryan White HIV/AIDS Program Part C grantees and clinical providers.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this Information Collection Request are summarized in the table below.

The annual estimate of burden is as follows:

Form name | Number of respondents | Number of responses per respondent | Total responses | Average burden per response (in hours) | Total burden hours
Qualitative Interview Data Collection Tool—State Medicaid Agencies | 40 | 1 | 40 | 2 | 80
Qualitative Interview Data Collection Tool—RWHAP Part A Administrators/Planning Councils | 80 | 1 | 80 | 2 | 160
Qualitative Interview Data Collection Tool—RWHAP Part B/ADAP Directors and Coordinators | 80 | 1 | 80 | 2 | 160
Qualitative Interview Data Collection Tool—RWHAP Part C Grantees/Clinical Providers | 80 | 1 | 80 | 2 | 160
Total | 280 |  | 280 |  | 560

ADDRESSES: Submit your comments to paperwork@hrsa.gov or mail the HRSA Reports Clearance Officer, Room 10-29, Parklawn Building, 5600 Fishers Lane, Rockville, MD 20857.

Deadline: Comments on this Information Collection Request must be received within 60 days of this notice.

Dated: April 12, 2013.
Bahar Niakan,
Director, Division of Policy and Information Coordination.

[FR Doc. 2013-09221 Filed 4-18-13; 8:45 am]

BILLING CODE 4165-15-P